DEPARTMENT OF THE TREASURY

Community Development Financial Institutions Fund

Request for Public Comment

ACTION: Notice and request for public comment.

SUMMARY: The U.S. Department of the Treasury, as part of a continuing effort to reduce paperwork and respondent burden, invites the general public and other federal agencies to take this opportunity to comment on proposed and/or continuing information collections, as required by the Paperwork Reduction Act (PRA) of 1995. Currently, the Community Development Financial Institutions Fund (CDFI Fund), Department of the Treasury, is soliciting comments concerning the Office of Certification, Compliance Monitoring and Evaluation (CCME) Title VI Compliance Worksheet (Worksheet). The Worksheet will be an online form submitted through the CDFI Fund's Award Management Information System (AMIS).

DATES: Written comments must be received on or before June 1, 2021 to be assured of consideration.

ADDRESSES: Submit your comments via email to Heather Hunt, Acting Program Manager for the Office of Certification, Compliance Monitoring and Evaluation, CDFI Fund at ccme@cdfi.treas.gov.

FOR FURTHER INFORMATION CONTACT: Heather Hunt, CCME Acting Program Manager, CDFI Fund, U.S. Department of the Treasury, 1500 Pennsylvania Avenue NW, Washington DC 20220, (202) 653-0421 (not a toll-free number). Other information regarding the CDFI Fund and its programs may be obtained on the CDFI Fund website at https://www.cdfifund.gov. The Title VI Compliance Worksheet, which presents the questions that will comprise the online form, may be obtained from the News and Events Section of the CDFI Fund website at https://www.cdfifund.gov/news-events/.

SUPPLEMENTARY INFORMATION: Title: Title VI Compliance Worksheet (Worksheet).

OMB Number: 1559-NEW.

Type of Review: Regular Review.

Abstract: This collection captures qualitative information from all Applicants to CDFI Fund's Federal Financial Assistance Programs. This information will be collected once annually from all Applicants to assess their compliance with federal civil rights requirements. Applicants must be compliant with federal civil rights requirements in order to be deemed eligible to receive Federal Financial Assistance grants from the CDFI Fund. The CDFI Fund will utilize the Worksheet to determine whether Applicants to CDFI Fund Financial Assistance Programs are compliant with federal civil rights requirements. The questions in the Worksheet are intended to assist the CDFI Fund in determining whether Federal Financial Assistance Applicants are compliant with the Treasury regulations implementing Title VI of the Civil Rights Act (Title VI), set forth in 31 CFR part 22. If the general public does not believe the questions in the Worksheet will assist the CDFI Fund with determining Applicant's compliance with federal civil rights requirements, the CDFI Fund asks that detailed comments be provided to better demonstrate how the CDFI Fund can determine an Applicants compliance with the requirements.

These requirements are set forth in the United States Department of the Treasury regulations implementing Title VI located in 31 CFR part 22, Nondiscrimination on the Basis of Race, Color, or National Origin in Programs or Activities Receiving Federal Financial Assistance from the Department of the Treasury. These regulations apply to Applicants as well as their prospective sub-recipients that are not direct beneficiaries of Federal Financial Assistance (e.g., Depository Institution Holding Company and their Subsidiary Depository Institutions).

Estimated Number of Respondents: 900.

Estimated Annual Time per Respondent: .5 hours.

Estimated Annual Burden Hours: 450 hours.

Request for Comments: Comments submitted in response to this Notice will be summarized and/or included in the request for Office of Management and Budget approval. All comments will become a matter of public record and may be published on the CDFI Fund website at https://www.cdfifund.gov.

Authority: 31 CFR part 22. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services required to provide information.

Jodie L. Harris,
Director, Community Development Financial Institutions Fund.

Community Development Financial Institutions Fund Title VI Compliance Worksheet

Applicant Name:_____

Employer Identification Number:_____

DUNS Number:_____

Submitted by:_____

Title:_____

Date Submitted:_____

Signature:_____

The United States Department of the Treasury regulations implementing Title VI of the Civil Rights Act (Title VI), are set forth in 31 CFR part 22. The Applicant should review such regulations carefully before completing this section. Please note that these regulations apply to Applicants as well as their prospective subrecipients that are not direct beneficiaries of Federal Financial Assistance (e.g., Depository Institution Holding Company and their Subsidiary Depository Institutions). In order to assure compliance with those regulations, and other requirements related to compliance with Title VI, the Applicant shall provide the following information:

Title VI Compliance Requirements | Yes | No
1. Civil Rights Complaint Information:
a. Has the Applicant had legal findings that they violated civil rights laws or civil rights complaints that resulted in any settlements in the last two years? If Yes, provide information on lawsuits and/or complaints such as case name, number, specific complaint, and date of case
b. Does the Applicant have any pending civil rights investigations, complaints, and/or lawsuits filed against them that pertain to allegations of discrimination on the basis of race, color, and/or national origin? If Yes, provide information on the investigations, complaints, and/or lawsuits such as case name, number, date of case, and status of case (e.g., discovery)
c. Has the Applicant ever been found to be noncompliant with civil rights requirements for any Federal Financial Assistance in the last two years? If Yes, provide the Federal Awarding Agency, program name, findings, corrective actions, status of corrective actions, agency point of contact, and attach a copy of the Title VI compliance review issued by the federal agency
d. Does the Applicant have any pending applications or current awards of Federal Financial Assistance with other federal awarding agencies? If Yes, please select the applicable federal agency(ies), enter the associated program name(s), and award amount
2. Notice of Rights and Program Location:
a. Does the Applicant post signs in its offices to inform persons of their rights under Title VI and other civil rights requirements? If No, please describe the Applicant's plan to post this information
b. Does the Applicant post information on their website informing persons of their rights under Title VI and other civil rights requirements? If No, please describe the Applicant's plan to post this information
c. If the Applicant provides services directly to customers, do they make efforts to ensure that facilities are accessible to the communities they serve? If No, describe why and how the Applicant mitigates this issue. If an Applicant does not provide direct services to customers answer “Yes.”
3. Language Assistance Plan:
a. Does the Applicant have a Language Assistance Plan (LAP) or process in place to support persons with limited English proficiency (LEP)? If No, describe how the Applicant will meet this requirement
b. Does the LAP or process to support LEP persons take into consideration the volume, proportion, or frequency of LEP persons that the Applicant serves in determining the appropriate language assistance? If No, describe how the Applicant determines what LEP services they provide
c. Does the Applicant display notices in appropriate languages in intake areas or initial points of contact on how to access language services? If No, describe how the Applicant meets this requirement or will meet this requirement
d. Does the Applicant provide language interpreter services or translated materials to LEP persons? If No, describe why not or how the Applicant plans to meet this requirement
4. Sub-recipient Communication:
a. If the Applicant has sub-recipients, do they have established measures to communicate civil rights compliance requirements to their sub-recipients? If No, describe how the Applicant meets this requirement or will meet this requirement. If the Applicant does not have sub-recipients answer “Yes.”
b. If the Applicant has sub-recipients, do they inform sub-recipients about how to provide notice to the public about their right to file a complaint of discrimination? If No, describe how the Applicant meets this requirement or will meet this requirement. If the Applicant does not have sub-recipients answer “Yes.”
c. If the Applicant has sub-recipients, do they conduct periodic review checks of sub-recipient compliance with Title VI requirements? If No, describe how the Applicant meets this requirement or will meet this requirement. If the Applicant does not have sub-recipients answer “Yes.”

[FR Doc. 2021-06577 Filed 3-30-21; 8:45 am]

BILLING CODE 4810-70-P